UNITED STATES INSTITUTE OF PEACE

Announcement of a Formal Evaluation of the Annual Grant Competition (Formerly Known as the Unsolicited Grant Initiative); Effective Immediately

AGENCY: United States Institute of Peace (USIP).

ACTION: Notice.

SUMMARY: Conduct an evaluation to assess the contribution and impact of the work of its Annual Grant Competition Program (formerly unsolicited grant program) from 1996-2006. USIP seeks an assessment of the program's effectiveness in advancing the Institute's mission to “prevent and resolve violent international conflicts, promote post-conflict stability and development, and increase conflict management capacity, tools, and intellectual capital worldwide.” The evaluation seeks to address the following concerns: (1) Demographic data of organizations and individuals funded by USIP (670 grantees); (2) Accountability of grantees; (3) Impact of USIP grants on the grantees and the professional field; (4) Perception of Annual Grant Competition Program at home and abroad.

The fixed-price contract of $50,000 will be awarded to a not-for-profit organization.

Deadline: Received by July 28, 2008, 5 p.m.

Proposal must include: Letter of Intent; Proof of non-profit status; Demonstrated knowledge of the conflict management field; Summary of proposed evaluation methodologies and techniques; Two examples of completed evaluation efforts; CVs of lead investigator and team members.

DATES: Notification Date: August 11, 2008. Completion Date: January 30, 2009.

ADDRESSES: United States Institute of Peace, Grant Program, 1200 17th Street, NW., Suite 200, Washington, DC 20036-3011, (202) 429-3842 (phone), (202) 833-1018 (fax), (202) 457-1719 (TTY), E-mail: grants@usip.org.

FOR FURTHER INFORMATION CONTACT: The Grant Program Annual Grant Competition, Phone (202) 429-3842, e-mail: grants@usip.org.

Dated: July 7, 2008.
Michael Graham,
Vice President for Administration.

[FR Doc. E8-15767 Filed 7-16-08; 8:45 am]

BILLING CODE 6820-AR-M